DEPARTMENT OF ENERGY

Federal Energy Regulatory Commission

[Docket No. EC00-141-000, et al.]

Potomac Electric Power Company, et al.; Electric Rate and Corporate Regulation Filings

September 25, 2000.

Take notice that the following filings have been made with the Commission:

1. Potomac Electric Power Company, Southern Energy Chalk Point, LLC, Southern Energy Mid-Atlantic, LLC, Southern Energy Peaker, LLC, Southern Energy Potomac River, LLC, Allegheny Energy Supply Company, LLC, PPL Montour, LLC and Potomac Power Resources, Inc.

[Docket Nos. EC00-141-000 and ER00-3727-000]

Take notice that on September 20, 2000, Potomac Electric Power Company (Pepco), Southern Energy Chalk Point, LLC (SE Chalk Point), Southern Energy Mid-Atlantic, LLC (SE Mid-Atlantic), Southern Energy Peaker, LLC (SE Peaker), Southern Energy Potomac River, LLC (SE Potomac River), Allegheny Energy Supply Company, LLC (Allegheny), PPL Montour, LLC (PPLM) and Potomac Power Resources, Inc. (PPR) (collectively the Applicants) tendered for filing an application under Section 203 of the Federal Power Act for approval to transfer certain jurisdictional facilities associated with the transfer by Pepco of certain generation assets to certain of the Applicants. Pepco and SE Potomac River, respectively, also tendered for filing pursuant to Section 205 of the Federal Power Act certain agreements related to the transferred facilities. The Applicants have served a copy of this filing on the District of Columbia Public Service Commission, the Maryland Public Service Commission, the Virginia State Corporate Commission and the Pennsylvania Public Utility Commission.

Comment date: October 20, 2000, in accordance with Standard Paragraph E at the end of this notice.

2. Entergy Power Inc., Entergy Arkansas, Inc., Entergy New Orleans, Inc., Entergy Louisiana, Inc., Entergy Mississippi, Inc., Entergy Gulf States, Inc., Entergy Power Marketing Corp., Entergy Nuclear Generation Co., Entergy Nuclear Fitzpatrick LLC. and Entergy Nuclear Indian Point 3, LLC.

[Docket Nos. ER91-569-011, ER91-569-011, ER91-569-011, ER91-569-011, ER91-569-011, ER91-569-011, ER95-1615-022, ER99-1004-003, ER00-2738-002 and ER00-2740-002]

Take notice that on September 15, 2000, Entergy Services Inc., on behalf of the above noted Entergy Affiliates, filed a notice of change in status, informing the Commission that Entergy Corp. had entered into a merger agreement with FPL Group Inc., the parent company of Florida Power and Light Co. (FPLCo). In accordance with Commission policy, the Entergy Affiliates intend to treat FPLCo as an “affiliate” under the provisions of their respective FERC market rate tariffs.

Comment date: October 6, 2000, in accordance with Standard Paragraph E at the end of this notice.

3. Ameren Services Company

[Docket No. ER00-3016-001]

Take notice that on September 20, 2000, Ameren Services Company (Ameren Services) tendered for filing a Network Operating Agreement and a Service Agreement for Network Integration Transmission Service between Ameren Services and Illinois Municipal Electric Agency (IMEA). Ameren Services asserts that the purpose of the Agreements is to permit Ameren Services to provide transmission service to IMEA pursuant to Ameren's Open Access Tariff.

Comment date: October 11, 2000, in accordance with Standard Paragraph E at the end of this notice.

4. Florida Power & Light Company, FPL Energy Power Marketing, Inc., FPL Energy Services, Inc., ESI Vansycle Partners, L.P., FPL Energy AVEC LLC, FPL Energy Maine Hydro LLC, FPL Energy Mason LLC, FPL Energy MH50, L.P., FPL Energy Wisconsin Wind LLC, FPL Energy Wyman LLC, FPL Energy Wyman IV LLC, Doswell Limited Partnership and Hawkeye Power Partners, LLC

[Docket Nos. ER97-3359-002, ER98-3566-006, ER99-2337-004, ER98-2494-002, ER98-3565-003, ER98-3511-003, ER98-3562-003, ER99-2917-001, ER00-56-001, ER98-3563-003, ER98-3564-003, ER00-2391-001 and ER98-2076-003]

Take notice that on September 15, 2000, FPL Group Inc. on behalf of the above noted FPL Affiliates, filed a notice of change in status, informing the Commission that FPL Group Inc. had entered into a merger agreement with Entergy Corp., the parent company of Entergy Arkansas, Entergy Louisiana, Entergy Mississippi and Entergy Texas (collectively, Entergy Operating Companies). In accordance with Commission policy, the FPL Affiliates intend to treat the Entergy Operating Companies as an “affiliate” under the provisions of their respective FERC market rate tariffs.

Comment date: October 6, 2000, in accordance with Standard Paragraph E at the end of this notice.

5. New England Power Pool

[Docket No. ER00-3507-001]

Take notice that on September 18, 2000, the New England Power Pool Participants Committee filed notification that the effective date of membership in the New England Power Pool (NEPOOL) of Edison Mission Marketing & Trading, Inc. and termination of Citizens Power Sales, LLC was September 1, 2000.

Comment date: October 10, 2000, in accordance with Standard Paragraph E at the end of this notice.

6. Virginia Electric and Power Company

[Docket No. ER00-3719-000]

Take notice that on September 20, 2000, Virginia Electric and Power Company (Virginia Power or the Company) tendered for filing a Network Integration Transmission Service and Network Operating Agreement (Service Agreement) by Virginia Electric and Power Company to CNG Power Services Corporation designated as Service Agreement No. 301 under the Company's Retail Access Pilot Program, pursuant to Attachment L of the Company's Open Access Transmission Tariff, FERC Electric Tariff, Second Revised Volume No. 5, to Eligible Purchasers effective June 7, 2000.

Virginia Power requests an effective date of September 20, 2000, the date of filing of the Service Agreements.

Copies of the filing were served upon CNG Power Services Corporation, the Virginia State Corporation Commission, and the North Carolina Utilities Commission.

Comment date: October 11, 2000, in accordance with Standard Paragraph E at the end of this notice.

7. PSEG Fossil LLC

[Docket No. ER00-3721-000]

Take notice that on September 20, 2000, PSEG Fossil LLC (PSEG Fossil) tendered for filing a rate schedule whereby Public Service Electric and Gas Company (“PSE&G”) assigned its rights and obligations under the Energy Service Agreement among the Keystone Generation Station owners and Reliant Energy Services, Inc.

This rate schedule will become effective on August 21, 2000.

Comment date: October 11, 2000, in accordance with Standard Paragraph E at the end of this notice.

8. PSEG Fossil LLC

[Docket No. ER00-3722-000]

Take notice that on September 20, 2000, PSEG Fossil LLC (PSEG Fossil) tendered for filing a rate schedule whereby Public Service Electric and Gas Company (PSE&G) assigned its rights and obligations under the Energy Service Agreement among the Conemaugh Generation Station owners and Reliant Energy Services, Inc.

This rate schedule will become effective on August 21, 2000.

Comment date: October 11, 2000, in accordance with Standard Paragraph E at the end of this notice.

9. Allegheny Energy Service Corporation, on Behalf of Allegheny Energy Supply Company LLC

[Docket No. ER00-3731-000]

Take notice that on September 20, 2000, Allegheny Energy Service Corporation on behalf of Allegheny Energy Supply Company, LLC (Allegheny Energy Supply Company) filed First Revised Service Agreement No. 52 to complete the filing requirement for one (1) new Customer of the Market Rate Tariff under which Allegheny Energy Supply offers generation services.

The Service Agreement portion of First Revised Service Agreement No. 52 will maintain the effective date of February 10, 2000 in accordance with the Commission's Order at Docket No. ER00-1987-000 and ER00-1987-001.

Copies of the filing have been provided to the Public Utilities Commission of Ohio, the Pennsylvania Public Utility Commission, the Maryland Public Service Commission, the Virginia State Corporation Commission, the West Virginia Public Service Commission, and all parties of record.

Comment date: October 11, 2000, in accordance with Standard Paragraph E at the end of this notice.

10. Allegheny Energy Service Corporation, on Behalf of Allegheny Energy Supply Company LLC

[Docket No. ER00-3732-000]

Take notice that on September 20, 2000, Allegheny Energy Service Corporation on behalf of Allegheny Energy Supply Company, LLC (Allegheny Energy Supply Company) filed First Revised Service Agreement No. 76 to complete the filing requirement for one (1) new Customer of the Market Rate Tariff under which Allegheny Energy Supply offers generation services.

Allegheny Energy Supply maintains the effective date of Service Agreement No. 76 of May 17, 2000 for service to East Kentucky Power Cooperative, Inc.

Copies of the filing have been provided to the Public Utilities Commission of Ohio, the Pennsylvania Public Utility Commission, the Maryland Public Service Commission, the Virginia State Corporation Commission, the West Virginia Public Service Commission, and all parties of record.

Comment date: October 11, 2000, in accordance with Standard Paragraph E at the end of this notice.

11. New York Independent System Operator, Inc.

[Docket No. ER00-3736-000]

Take notice that on September 20, 2000, the New York Independent System Operator, Inc. (NYISO) filed revisions to Schedule 1 of its Open Access Transmission Tariff.

The NYISO requests an effective date of October 1, 2000 and waiver of the Commission's notice requirements.

A copy of this filing was served upon all persons who have signed Service Agreements under the NYISO Open Access Transmission Tariff and on the electric utility regulatory agencies in New York, New Jersey and Pennsylvania.

Comment date: October 11, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-25180 Filed 9-29-00; 8:45 am]

BILLING CODE 6717-01-U